DEPARTMENT OF COMMERCE

Minority Business Development Agency

[Docket No. 000724217-0217-01]

RIN 0640-ZA08

Solicitation of Applications for the Minority Business Development Center (MBDC) Program

AGENCY: Minority Business Development Agency, Commerce.

ACTION: Notice.

SUMMARY: The Minority Business Development Agency (MBDA) published a document in the Federal Register of August 28, 2000, concerning solicitation of competitive applications from organizations to operate new and enhanced Minority Business Development Centers (MBDC) under its Minority Business Development Center (MBDC) Program. This document extends the closing date of the award to no later than 5 p.m., EDT on October 6, 2000.

DATES: The closing date for receipt of applications has been extended until October 6, 2000.

ADDRESSES: Applicants must submit one signed original plus two (2) copies of the application. Completed application packages must be submitted to: Minority Business Development Center Program Office, Room 5600, Minority Business Development Agency, U.S. Department of Commerce, 14th & Constitution Avenue, NW, Washington, DC 20230.

If the application is hand-delivered by the applicant or its representative, the application must be delivered to Room 1874, which is located at Entrance #10, 15th Street, NW, between Pennsylvania and Constitution Avenues. Applicants are encouraged to submit their proposal electronically via the World Wide Web. However, the following paper forms must be submitted with original signatures in conjunction with any electronic submissions by the closing date and time stated above: (1) SF-424, Application for Federal Assistance; (2) the SF-424B, Assurances-Non-Construction Programs; (3) the SF-LLL (Rev. 7-97) (if applicable), Disclosure of Lobbying Activities; (4) Department of Commerce Form CD-346 (if applicable), Applicant for Funding Assistance; and (5) the CD-511, Certifications Regarding Debarment, Suspension and Other Responsibility Matters; Drug-Free Workplace Requirements and Lobbying. MBDA's web site address to submit an application on-line is www.mbda.gov/e-grants. All required forms are located at this web address.

Failure to submit a signed, original SF-424 with the application, or separately in conjunction with submitting a proposal electronically, by the deadline will result in the application being rejected and returned to the applicant. Failure to sign and submit with the application, or separately in conjunction with submitting a proposal electronically, the forms identified above by the deadline will automatically cause an application to lose two (2) points. Failure to submit other documents or information may adversely affect an applicant's overall score.

FOR FURTHER INFORMATION CONTACT: For further information, contact the MBDA Regional Office for the geographic service area in which the project will be located.

SUPPLEMENTARY INFORMATION: In the Federal Register issue of August 28, 2000, in FR Doc. 00-21858, on page 52069, in the third column (third paragraph), change the date from September 29, 2000 to October 6, 2000. Applications will be accepted until 5:00 p.m. Eastern Daylight Time.

Dated: September 22, 2000.
Edith Jett McCloud,
Associate Director for Management, Minority Business Development Agency.
Juanita E. Berry,
Federal Register Liaison Officer, Minority Business Development Agency.

[FR Doc. 00-25467 Filed 10-3-00; 8:45 am]

BILLING CODE 3510-21-P